DEPARTMENT OF ENERGY

[Docket No. EA-293]

Application To Export Electric Energy; Coral Energy Management, LLC

AGENCY: Office of Fossil Energy, DOE.

ACTION: Notice of application.

SUMMARY: Coral Energy Management, LLC (Coral) has applied for authority to transmit electric energy from the United States to Mexico pursuant to section 202(e) of the Federal Power Act.

DATES: Comments, protests or requests to intervene must be submitted on or before July 30, 2004.

ADDRESSES: Comments, protests or requests to intervene should be addressed as follows: Office of Coal & Power Im/Ex (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On May 24, 2004, the Office of Fossil Energy (FE) of the Department of Energy (DOE) received an application from Coral to transmit electric energy from the United States to Mexico for a period of five years. Coral is owned by subsidiaries of Shell Oil Company and InterGen, N.V., with its principal place of business in Houston, Texas. Coral does not own or control any electric generation facilities, nor does it have a franchised electric power service area. The electric energy which Coral proposes to export to Mexico would be purchased from electric utilities and other suppliers within the U.S.

Coral proposes to arrange for the delivery of electric energy to Mexico over the international transmission facilities owned by San Diego Gas & Electric Company, El Paso Electric Company, Central Power and Light Company, Baja California Power, and Comision Federal de Electricidad, the national electric utility of Mexico. The construction of each of the international transmission facilities to be utilized, as more fully described in the application, has previously been authorized by a Presidential permit issued pursuant to Executive Order 10485, as amended.

FE notes that Coral has requested it be authorized to export electric energy using the 230-kV international transmission facilities currently owned by Baja California Power, Inc. (also an Intergen affiliate) and authorized by Presidential Permit PP-234. These facilities have not previously been authorized for third-party use since they do not interconnect with the system of the Comision Federal de Electricidad. Rather, these facilities connect directly to the Energia de Baja California (EBC) powerplant located in Mexicali, Mexico, and can be used in the export mode at a maximum rate of transmission of 17 megawatts (MW) only to deliver electric energy to the powerplant during startup. Presently, EBC is the only entity authorized to export over the PP-234 facilities. If granted an electricity export authorization in this docket, Coral's use of these facilities also would be limited to exports not to exceed an instantaneous transmission rate of 17 MW.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Coral application to export electric energy to Mexico should be clearly marked with Docket EA-293. Additional copies are to be filed directly with Robert Reilley, Vice President, Regulatory Affairs, 909 Fannin, Plaza Level 1, Houston, TX 77010.

A final decision will be made on this application after the environmental impacts have been evaluated pursuant to the National Environmental Policy Act of 1969 (NEPA), and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory Programs,” then “Pending Proceedings” from the options menus.

Issued in Washington, DC, on June 24, 2004.
Anthony J. Como,
Deputy Director, Electric Power Regulation, Office of Coal & Power Import/Export, Office of Coal & Power Systems, Office of Fossil Energy.

[FR Doc. 04-14807 Filed 6-29-04; 8:45 am]

BILLING CODE 6450-01-P